DEPARTMENT OF AGRICULTURE

Forest Service

Brick Trout Project, Clearwater National Forest, Idaho County, ID

AGENCY: Forest Service, USDA.

ACTION: Notice of intent to prepare an environmental impact statement.

SUMMARY: The USDA, Forest Service, will prepare an environmental impact statement (EIS) to disclose the environmental effects of timber harvesting the Brick Creek, Panther Creek, Lunch Creek, Trout Creek, and Fan Creek drainages (herein referred to as the Brick Trout project). The project area is located 16 miles east of Kamiah, Idaho, north of U.S. Highway 12, mostly along or near Forest Roads 514 and 5043. The project area is outside of inventoried roadless areas.

DATES: Comments concerning the scope of the analysis must be postmarked within 45 days after this Notice of Intent appears in the Federal Register. The draft environmental impact statement is expected to be available in February, 2007 and the final environmental impact statement is expected to be completed in September of 2007.

ADDRESSES: Written comments concerning this notice or a request to be placed on the project mailing list should be addressed to Chris Tootell, TEAMS, 200 East Broadway, Suite 251. Missoula, Montana, 59807. Comments may also be sent via e-mail to ctootell@fs.fed.us. The subject line in the e-mail message should contain the title “Brick Trout Timber Sale Project.” If you choose to comment by e-mail, please include your name and regular mailing address with the comment. Comments may also be sent via facsimile to (406) 329-3411, c/o Chris Tootell, Environmental Coordinator.

All comments, including names and addresses when provided, are placed in the record and are available for public inspection and copying. The public may inspect comments received at the U.S. Forest Service, Lochsa District Office in Kooskia, Idaho.

FOR FURTHER INFORMATION CONTACT: Chris Tootell, Environmental Resource Coordinator, TEAMS Enterprise unit, USDA Forest Service (406) 329-3459. Individuals who use telecommunication devices for the deaf (TDD) may call the Federal Information Relay Service (FIRS) at 1-800-877-8339 between 8 a.m. and 8 p.m., Eastern Standard Time, Monday through Friday.

SUPPLEMENTARY INFORMATION: The proposed project is located in portions of Sections 8, 17, 18, 23-28, 33-36, T34N, R6E, and Section 3, T33N, R6E, Boise Meridian, Idaho County, Idaho. The analysis area encompasses approximately 7,000 acres.

Purpose and Need for Action

The purpose and need for the proposed action is to: (1) Improve forest health, reduce catastrophic wildfire risk, maintain and restore ecological processes and functions, and restore tree stands to structure and species composition that would be expected under natural disturbance regimes; (2) manage the landscape to provide for goods and services deemed important to society; (3) restore the aquatic ecosystem to more natural processes and functions.

Proposed Action

The Forest Service proposes to harvest timber on 427 acres and then plan western white pine and western larch on most of the harvest area. Specifically, harvesting would include: 300 acres of clearcutting with reserves, 70 acres of seed tree harvest, 57 acres of final removal, 437 acres of slash treatment and site preparation for tree planting, 437 acres of tree planting. Cable yarding systems would be used for most of the area (350 acres). The rest of the area (77 acres) would use tractor-yarding methods. To access the harvest units, 3.5 miles of temporary road would be built. Upon project completion, all temporary roads would be decommissioned, which includes recontouring the road prism. Watershed restoration activities would consist of road reconstruction on 1.9 miles of road, road reconditioning (brushing, blading and ditch cleaning) on 43.7 miles of road, replacement of two undersized culverts to improve fish passage, road decommissioning on three miles of road, and placing about 7.7 miles of road into storage.

Possible Alternatives

The Forest Service will consider alternatives to the proposed action including a “no action” alternative in which none of the proposed activities would be implemented. Additional alternatives being considered examine varying levels and locations for the proposed activities to achieve the proposal's purpose and need, as well as to respond to issues and other resource concerns.

Responsible Official

The Responsible Official is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to the District Ranger, Lochsa Ranger District, Rt. 1 Box 398, Kooskia, ID 83539.

Scoping Process

The Clearwater National Forest has developed a listing of individuals and organizations that have expressed an interest in being informed of and providing input to projects such as this. This list of individuals and organizations include Native American groups, private citizens, businesses, various organizations, and Federal, State and county agencies. All of these contacts will be sent the initial scoping document.

Preliminary Issues

The following list of preliminary issues was developed for the project area by the Forest Service Interdisciplinary Team (ID Team). This list of issues will be amended and/or expanded after review of the Brick Trout Environmental Impact Statement project scoping comments. Preliminary issues include: effects of tree retention levels on ecosystem functions and processes, effects, of road decommissioning on future forest access, effects of mature forest harvest on sensitive species, and effects of proposed activities on old growth habitat.

Comment Requested

This notice of intent initiates the scoping process which guides the development of the draft environmental impact statement, including the identification of the range of issues to be addressed and for identifying the significant issues related to the proposed action. The Forest Service believes that it is important to give reviewers notice that they must comment or otherwise notify the Forest Service of their interest in this project to have the right to appeal. To assist the Forest Service in identifying and considering issues, concerns and other relevant information on the project proposal, comments should be as specific as possible.

Early Notice of Importance of Public Participation in Subsequent Environmental Review: A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed actions, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: September 5, 2006.
Thomas K. Reilly,
Forest Supervisor.

[FR Doc. 06-7587 Filed 9-11-06; 8:45 am]

BILLING CODE 3410-11-M